DEPARTMENT OF THE INTERIOR

Bureau of Land Management

[LLNML00000 L16100000.DS0000]

Notice of Intent To Prepare a Supplement to the Tri-County Draft Resource Management Plan and Environmental Impact Statement, New Mexico

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Las Cruces District Office, Las Cruces, New Mexico, intends to prepare a Supplement to the Tri-County Draft Resource Management Plan (RMP) and Draft Environmental Impact Statement (EIS), and by this notice is announcing the beginning of the scoping process to solicit public comments and identify issues specific to oil and gas development and lands with wilderness characteristics. When completed, the Tri-County RMP will replace the White Sands RMP (1986) and portions of the Mimbres RMP (1993).

DATES: This notice initiates the public scoping process for the Supplemental Draft RMP/EIS. Comments on issues specifically addressing oil and gas development and lands with wilderness characteristics may be submitted in writing until January 21, 2014. The date(s) and location(s) of any scoping meetings will be announced at least 15 days in advance through local media, newspapers and the BLM Web site at: http://www.blm.gov/nm/tricountyrmp

In order to be included in the Supplemental Draft EIS, all comments must be received prior to the close of the 30-day scoping period or 15 days after the last public meeting, whichever is later. We will provide additional opportunities for public participation upon publication of the Supplemental Draft RMP/EIS.

ADDRESSES: You may submit comments on issues and planning criteria related to the Supplemental Draft RMP/EIS by any of the following methods:

• Web site: http://www.blm.gov/nm/tricountyrmp.

• Email: BLM_NM_LCDO_Comments@blm.gov.

• Fax: 575-525-4412.

• Mail: BLM, Las Cruces District Office, Attention: Tri-County Comments, 1800 Marquess Street, Las Cruces, NM 88005.

Documents pertinent to this proposal may be examined at the Las Cruces District Office at the above address.

FOR FURTHER INFORMATION CONTACT: Jennifer Montoya, RMP/EIS Team Lead, at 575-525-4300 or by email at BLM_NM_LCDO_Comments@blm.gov. Please contact Ms. Montoya if you wish to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM New Mexico Las Cruces District Office intends to prepare a Supplement to the Draft RMP/EIS for the Tri-County Planning Area; announces the beginning of the scoping process; and seeks public input on issues and planning criteria. The planning area is located in Sierra, Otero, and Doña Ana Counties, New Mexico, and encompasses about 9.3 million acres of land which includes 2.82 million Federal surface acres and 3.98 million acres of Federal mineral estate (subsurface) managed by the BLM Las Cruces District Office. The scope of the Supplemental Draft RMP/EIS is limited to oil and gas development and lands with wilderness characteristics. Other issues involved in managing this planning area have previously been addressed in the Tri-County Draft RMP/EIS published in April 2013. The purpose of the public scoping process is to determine relevant issues that will influence the scope of the environmental analysis, including alternatives, and guide the planning process. Preliminary issues for the Supplemental Draft RMP/EIS have been identified by BLM personnel; Federal, State, and local agencies; and other stakeholders. The issues include: Oil and gas development within the Tri-County Planning Area, directional drilling and hydraulic fracturing applications, air quality impacts, impacts to water quality and quantity, habitat fragmentation, and determining how lands with wilderness characteristics will be managed.

The Supplemental Draft RMP/EIS will make allocations for fluid minerals as either open to oil and gas leasing, closed to leasing, or open to leasing with major or moderate constraints, as required by BLM land use planning policy; and will develop objectives, stipulations, and best management practices in areas open to leasing. The Supplemental Draft RMP/EIS will also determine the potential for fluid mineral leasing in the planning area, and will analyze likely development scenarios and varying mitigation methods and levels for areas with moderate or high potential for fluid minerals. The Tri-County Supplemental Draft RMP/EIS will consider a reasonable range of alternatives in fluid mineral leasing and may contain re-evaluations of lands with wilderness characteristics inventory and management decisions in accordance with regulations at 43 CFR part 1610 and 40 CFR part 1500. The preliminary planning criteria that have been identified state that the Tri-County Supplemental Draft RMP/EIS process will:

1. Comply with NEPA, FLPMA, the Transfer Act, and all other applicable laws, regulations, and policies;

2. Contain decisions that only apply to public land and the mineral estate managed by the BLM;

3. Follow the BLM Land Use Planning Handbook H-1601-1 and the BLM NEPA Handbook H-1790-1;

4. Include broad-based public participation;

5. Consider reasonable alternatives in accordance with regulations at 43 CFR part 1610 and 40 CFR part 1500;

6. Consider the identification and management of lands with wilderness characteristics;

7. Include coordination with State, local, and tribal governments to ensure that the BLM considers provisions of pertinent plans, seeks to resolve any inconsistencies among State, local and tribal plans, and provides ample opportunities for State, local and tribal governments to comment on the development of the Supplemental Draft;

8. Use Geographic Information Systems and incorporate geospatial data to the extent practicable and Federal Geographic Data Committee standards and other applicable BLM data standards will be followed;

9. Rely on available inventories of the lands and resources as well as data gathered during the planning process;

10. Incorporate and observe the principles of multiple-use and sustained yield;

11. Recognize valid existing rights;

12. Use analysis in the RMP Amendment/EIS for Fluid Minerals Leasing and Development in Sierra and Otero Counties EIS (BLM 2003) to the extent possible and practicable.

Parties interested in leasing and developing Federal coal in the planning area should provide coal resource data for their area(s) of interest. Specifically, information is requested on the location, quality, and quantity of Federal coal with development potential, and on surface resource values related to the 20 coal unsuitability criteria described in 43 CFR part 3461. This information will be used for any necessary updating of coal screening determinations in the planning area. The coal screening process is described in 43 CFR 3420.1-4. Proprietary data marked as confidential may be submitted in response to this call for coal information. Submit all proprietary information submissions to the address listed above. The BLM will treat submissions marked as “Confidential” in accordance with applicable laws and regulations governing the confidentiality of such information.

You may submit comments on issues and planning criteria in writing to the BLM at any public scoping meeting, or you may submit them to the BLM using one of the methods listed in the ADDRESSES section above. To be most helpful, you should submit comments by the close of the 30-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan;

2. Issues to be resolved through policy or administrative action; or

3. Issues beyond the scope of this plan.

The BLM will provide an explanation in the Supplement to the Draft RMP/EIS as to why an issue was placed in category two or three. The public is also encouraged to help identify any management questions and concerns that should be addressed in the plan.

The BLM will work collaboratively with interested parties to identify the management decisions that are best suited to local, regional, and national needs and concerns.

The BLM will use the NEPA public participation requirements to assist the agency in satisfying the public involvement requirements under Section 106 of the National Historic Preservation Act (NHPA) (16 U.S.C. 470(f)) pursuant to 36 CFR 800.2(d)(3).

The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: Minerals and geology, wilderness, range management, outdoor recreation, archaeology, paleontology, wildlife and fisheries, lands and realty, hydrology, soils, sociology and economics.

Authority: 40 CFR 1501.7, 40 CFR 1502.9, 43 CFR 1610.2.

Aden L. Seidlitz,
Associate State Director, New Mexico.

[FR Doc. 2013-30226 Filed 12-18-13; 8:45 am]

BILLING CODE 4310-FB-P